DEPARTMENT OF THE TREASURY

President's Commission on the United States Postal Service

AGENCY: Department of the Treasury, Departmental Offices.

ACTION: Notice of meeting.

SUMMARY: Notice is given of a meeting of the President's Commission on the United States Postal Service.

DATES: The meeting will be held on Friday, April 4, 2003, from 8:30 a.m. to approximately 12:30 p.m. p.s.t.

ADDRESSES: The meeting will be held in the Concourse Ballroom (2nd floor) of The Westin Hotel Los Angeles Airport, 5400 West Century Boulevard, Los Angeles, California 90045.

FOR FURTHER INFORMATION CONTACT: Roger Kodat, Designated Federal Official, 202-622-7073.

SUPPLEMENTARY INFORMATION: At the public meeting, the Commission will examine the current and potential role of the private sector in the mail delivery system through outsourcing, worksharing, and retail partnerships. The Commission will also examine the issue of Postal Service competition with the private sector. Witnesses will testify at the invitation of the Commission. At the meeting, the Private-Sector Partnership Subcommittee will report to the Commission. Seating is limited.

Dated: March 13, 2003.
Roger Kodat,
Designated Federal Official.

[FR Doc. 03-6400 Filed 3-17-03; 8:45 am]

BILLING CODE 4811-16-P